OFFICE OF THE UNITED STATES TRADE REPRESENTATIVE

Generalized System of Preferences (GSP): Extension of Deadlines for Filing Petitions for the 2011 Annual GSP Product and Country Practices Review

AGENCY: Office of the United States Trade Representative.

ACTION: Notice of extension of the deadline for submission of petitions from the public.

SUMMARY: The deadlines for submission of all petitions for consideration as part of the 2011 Annual GSP Product and Country Practices Review are extended to December 30, 2011.

SUPPLEMENTARY INFORMATION: On November 1, 2011, a notice was published in the Federal Register (76 FR 67531) announcing the initiation of the 2011 Annual GSP Product and Country Practices Review and setting out the deadlines for the submission of petitions to modify the list of products that are eligible for duty-free treatment under the GSP program and to modify the GSP status of certain GSP beneficiary developing countries because of country practices. The deadline for submission of country practice petitions and for submission of product petitions, except for those requesting competitive need limitation (CNL) waivers, was December 5, 2011. The deadline for submission of petitions requesting CNL waivers was December 16, 2011. This notice extends the deadlines for the submission of all petitions for the 2011 Annual Review to 5 p.m., December 30, 2011. Decisions on which of the petitions that are submitted are accepted for review will be announced in the Federal Register at later dates.

FOR FURTHER INFORMATION CONTACT: Tameka Cooper, GSP Program, Office of the United States Trade Representative, 600 17th Street NW., Washington, DC 20508. The telephone number is (202) 395-6971; the fax number is (202) 395-9674, and the email address is Tameka_Cooper@ustr.eop.gov.

Public versions of all documents relating to the 2011 Annual Review will be made available for public viewing in docket USTR-2011-0015 at www.regulations.gov upon completion of processing and no later than approximately two weeks after the due date.

William D. Jackson,
Deputy Assistant, U.S. Trade Representative for the Generalized System of Preferences and Chair of the GSP Subcommittee of the Trade Policy Staff Committee, Office of the U.S. Trade Representative.

[FR Doc. 2011-31316 Filed 12-6-11; 8:45 am]

BILLING CODE 3190-w2-P